DEPARTMENT OF HOMELAND SECURITY

Coast Guard

33 CFR Part 117

[Docket No. USCG-2018-1054]

Drawbridge Operation Regulation; Duwamish Waterway, Seattle, WA

AGENCY: Coast Guard, DHS.

ACTION: Notice of deviation from drawbridge regulation.

SUMMARY: The Coast Guard has issued a temporary deviation from the operating schedule that governs the Southwest Spokane Street Bridge (Spokane Street Bridge), mile 0.3, across the Duwamish Waterway at Seattle, WA. The deviation is necessary to accommodate re-routed roadway traffic while the Alaskan Way Viaduct is closed. This deviation allows the subject bridge to remain in the closed-to-navigation position to allow congested roadway traffic to move easier.

DATES: This deviation is effective from 7 a.m. on January 11, 2019, to 7 p.m. on February 9, 2019.

ADDRESSES: The docket for this deviation, USCG-2018-1054 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Seattle Department of Transportation (SDOT), the owner of the impacted drawbridges, requested a temporary deviation from the operating schedule for the Spokane Street Bridge, mile 0.3, across the Duwamish Waterway at Seattle, WA, to facilitate morning and afternoon re-routed roadway traffic. Washington Department of Transportation is closing the Alaskan Way Viaduct forever, and have not finished building new ramp approaches to the new SR99 Tunnel into Seattle, WA. During the closure of the viaduct, SDOT will be re-routing roadway traffic into Seattle across the Duwamish Waterway, and requested to not open the subject bridge to marine vessels during morning and afternoon hours. The normal operating schedule for the Spokane Street Bridge is in 33 CFR 117.5; which is open on signal. The Spokane Street Bridge provides a vertical clearance of 55 feet for the center 130 feet in the closed-to-navigation position, and 44 feet in the closed-to-navigation position on both sides. Vertical clearances refer to the Mean High tide level.

During this deviation period, the Spokane Street Bridge draw need not open to vessels from 7 a.m. to 10 a.m., and from 2 p.m. to 5 p.m. from January 11, 2019 to February 9, 2019, for vessels less than 5000 gross tons. If a vessel has in tow a vessel of 5000, or more, gross tons, or is a vessel proceeding to pick up a tow vessel of 5000, or more, gross tons, the Spokane Street Bridge shall open on signal. Delta Marine will be conducting sea trials during this deviation period with a 174 foot, 900 ton vessel; SDOT has agreed to open the subject bridge, on signal, for the Delta Marine vessel during this deviation period. Waterway usage on the Duwamish Waterway range from large mega yachts, commercial tug and barge to small pleasure craft. Vessels able to pass through the subject bridge in the closed-to-navigation position may do so at any time. The Spokane Street Bridge will not be able to open for emergencies, and there is no immediate alternate route for vessels to pass. The Coast Guard will also inform the users of the waterways through our Local and Broadcast Notices to Mariners of the change in operating schedule for the bridges so that vessel operators can arrange their transits to minimize any impact caused by the temporary deviation.

In accordance with 33 CFR 117.35(e), the Spokane Street Bridge must return to its regular operating schedule immediately at the end of the effective period of this temporary deviation. This deviation from the operating regulations is authorized under 33 CFR 117.35.

Dated: December 3, 2018.
Steven M. Fischer,
Bridge Chief Administrator, Thirteenth Coast Guard District.

[FR Doc. 2018-27831 Filed 12-21-18; 8:45 am]

BILLING CODE 9110-04-P